DEPARTMENT OF TRANSPORTATION

Federal Aviation Administration

[Summary Notice No. PE-2003-08]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Mike Brown, Office of Rulemaking (ARM-1), Federal Aviation Administration, 800 Independence Avenue, SW., Washington, DC 20591. Tel. (202) 267-7653.

This notice is published pursuant to 14 CFR §§ 11.85 and 11.91.

Issued in Washington, DC on March 4, 2003.
Richard D. McCurdy,
Acting Assistant Chief Counsel for Regulations.

Dispositions of Petitions

Docket No.: FAA-2002-13892.

Petitioner: JAMCO America, Inc.

Section of 14 CFR Affected:

14 CFR 21.325(b)(3).

Description of Relief Sought/Disposition:

To permit JAMCO to issue export airworthiness approvals for Class II and Class III products manufactured and located at JAMCO's facilities in Tokyo, Japan.

Grant, 1/03/2003, Exemption No. 7549A.

Docket No.: FAA-2000-8286.

Petitioner: Raytheon Aircraft Company.

Section of 14 CFR Affected:

14 CFR 21.325(b)(3).

Description of Relief Sought/Disposition:

To permit Raytheon to obtain airworthiness approval tags for its Hawker model parts under 21.21 and 21.203, and export those Class II and Class III parts located at certain facilities outside of the United States.

Grant, 1/03/2003, Exemption No. 6720C.

[FR Doc. 03-5454 Filed 3-6-03; 8:45 am]

BILLING CODE 4910-13-P